DEPARTMENT OF VETERANS AFFAIRS

[OMB Control No. 2900-0655]

Agency Information Collection Activity Under OMB Review: Residency Verification Report—Veterans and Survivors

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0655.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0655” in any correspondence.

SUPPLEMENTARY INFORMATION:

Authority: 38 U.S.C. 107.

Title: Residency Verification Report-Veterans and Survivors (FL21-914).

OMB Control Number: 2900-0655.

Type of Review: Revision of a currently approved collection.

Abstract: Form Letter 21-914 is primarily used to gather information which is necessary to verify whether a veteran or beneficiary who is receiving benefits at the full-dollar rate based on U.S. residency continues to meet the residency requirements. Continued eligibility to benefits at the full-dollar rate cannot be determined without complete information about a veteran's or beneficiary's residency.

No substantive changes have been made to this form. However, the burden estimate has decreased due to (1) a decrease in the number of minutes it takes to fill out the form, and (2) the respondent total has also decreased since the previous approval due to the estimated number of receivables averaged over the past year.

An agency may not conduct or sponsor, and a person is not required to respond to a collection of information unless it displays a currently valid OMB control number. The Federal Register Notice with a 60-day comment period soliciting comments on this collection of information was published at 88 FR 67454 on Friday, September 29, 2023.

Affected Public: Individuals or households.

Estimated Annual Burden: 75 hours.

Estimated Average Burden per Respondent: 5 minutes.

Frequency of Response: One time.

Estimated Number of Respondents: 900.

By direction of the Secretary.
Maribel Aponte,
VA PRA Clearance Officer, Office of Enterprise and Integration, Data Governance Analytics, Department of Veterans Affairs.

[FR Doc. 2023-26548 Filed 12-1-23; 8:45 am]

BILLING CODE 8320-01-P